DEPARTMENT OF ENERGY

Federal Energy Regulatory Commission

Combined Notice of Filings #1

Take notice that the Commission received the following electric rate filings:

Docket Numbers: ER10-2265-004; ER14-1818-004; ER13-1965-007; ER13-1791-005; ER12-261-012; ER11-4308-013; ER11-4307-013; ER11-2805-012; ER11-2508-012; ER11-2108-004; ER11-2107-004; ER11-2062-013; ER10-2888-013; ER10-2340-006; ER10-2339-006; ER10-2338-006; ER10-1291-014

Applicants: NRG Power Marketing LLC, Boston Energy Trading and Marketing LLC, CP Power Sales Seventeen, L.L.C., CP Power Sales Nineteen, L.L.C., CP Power Sales Twenty, L.L.C., Energy Plus Holdings LLC, GenConn Energy LLC, GenOn Energy Management, LLC, Green Mountain Energy Company, Independence Energy Group LLC, Norwalk Power LLC, NRG Florida LP, NRG Wholesale Generation LP, Reliant Energy Northeast LLC, RRI Energy Services, LLC..

Description: Supplement and Amendment to December 31, 2014 Updated Market Power Analysis in Southeast Region of NRG MBR Entities.

Filed Date: 5/18/15.

Accession Number: 20150518-5322.

Comments Due: 5 p.m. ET 6/8/15.

Docket Numbers: ER13-102-007.

Applicants: New York Independent System Operator, Inc., Winston & Strawn LLP.

Description: Compliance filing per 35: NYISO/TOs joint compliance filing Order No. 1000 to be effective 1/1/2014.

Filed Date: 5/18/15.

Accession Number: 20150518-5250.

Comments Due: 5 p.m. ET 6/8/15.

Docket Numbers: ER13-193-005.

Applicants: ISO New England Inc., Northeast Utilities Service Company.

Description: Compliance filing per 35: Third Order No. 1000 Regional Compliance Filing to be effective 5/18/2015.

Filed Date: 5/18/15.

Accession Number: 20150518-5253.

Comments Due: 5 p.m. ET 6/8/15.

Docket Numbers: ER13-1939-001.

Applicants: Southwest Power Pool, Inc.

Description: Compliance filing per 35: Order 1000 Interregional Compliance Filing—Docket ER13-1939 to be effective 1/1/2015.

Filed Date: 5/18/15.

Accession Number: 20150518-5277.

Comments Due: 5 p.m. ET 6/8/15.

Docket Numbers: ER13-1940-003.

Applicants: Ohio Valley Electric Corporation.

Description: Compliance filing per 35: Interregional Compliance Filing to be effective N/A.

Filed Date: 5/18/15.

Accession Number: 20150518-5268.

Comments Due: 5 p.m. ET 6/8/15.

Docket Numbers: ER13-196-004.

Applicants: ISO New England Inc., Northeast Utilities Service Company.

Description: Compliance filing per 35: Third Order No. 1000 Regional Compliance Filing—TOA to be effective 5/18/2015.

Filed Date: 5/18/15.

Accession Number: 20150518-5258.

Comments Due: 5 p.m. ET 6/8/15.

Docket Numbers: ER14-2869-001.

Applicants: Black Hills Power, Inc.

Description: Compliance filing per 35: Compliance Filing Revising Attachment H Formula Rate Protocols to be effective 1/1/2015.

Filed Date: 5/18/15.

Accession Number: 20150518-5262.

Comments Due: 5 p.m. ET 6/8/15.

Docket Numbers: ER15-1308-001.

Applicants: Kingfisher Wind, LLC.

Description: Tariff Amendment per 35.17(b): Kingfisher Wind FERC Electric Tariff Volume No. 1 MBR Tariff to be effective 6/30/2015.

Filed Date: 5/19/15.

Accession Number: 20150519-5000.

Comments Due: 5 p.m. ET 6/9/15.

Docket Numbers: ER15-1734-000.

Applicants: PJM Interconnection, L.L.C.

Description: Section 205(d) rate filing per 35.13(a)(2)(iii): Original Service Agreement Nos. 4145, 4146, 4147; Queue No. Z2-040 to be effective 4/17/2015.

Filed Date: 5/18/15.

Accession Number: 20150518-5243.

Comments Due: 5 p.m. ET 6/8/15.

Docket Numbers: ER15-1735-000.

Applicants: PJM Interconnection, L.L.C., Northern Virginia Electric Cooperative, Inc.

Description: Section 205(d) rate filing per 35.13(a)(2)(iii): PJM and NOVEC submit Service Agreement No. 3724 (NITSA) to be effective 1/1/2014.

Filed Date: 5/18/15.

Accession Number: 20150518-5249.

Comments Due: 5 p.m. ET 6/8/15.

Docket Numbers: ER15-1736-000.

Applicants: Midcontinent Independent System Operator, Inc.

Description: Section 205(d) rate filing per 35.13(a)(2)(iii): 2015-05-18_SA 2242 Minnesota Power-Minnesota Power GIA (H092) to be effective 7/18/2015.

Filed Date: 5/18/15.

Accession Number: 20150518-5260.

Comments Due: 5 p.m. ET 6/8/15.

Docket Numbers: ER15-1737-000.

Applicants: Southwest Power Pool, Inc.

Description: Compliance filing per 35: Compliance Filing Revising Westar Energy, Inc.'s Formula Rate Protocols to be effective 3/1/2015.

Filed Date: 5/18/15.

Accession Number: 20150518-5261.

Comments Due: 5 p.m. ET 6/8/15.

Docket Numbers: ER15-1738-000.

Applicants: Southwest Power Pool, Inc.

Description: Compliance filing per 35: Compliance Filing Revising KCP&L-GMO's Formula Rate Protocols to be effective 3/1/2015.

Filed Date: 5/18/15.

Accession Number: 20150518-5263.

Comments Due: 5 p.m. ET 6/8/15.

Docket Numbers: ER15-1739-000.

Applicants: Southwest Power Pool, Inc.

Description: Compliance filing per 35: Compliance Filing Revising KCP&L's Formula Rate Protocols to be effective 3/1/2015.

Filed Date: 5/18/15.

Accession Number: 20150518-5270.

Comments Due: 5 p.m. ET 6/8/15.

Docket Numbers: ER15-1740-000.

Applicants: Midcontinent Independent System Operator, Inc.

Description: Section 205(d) rate filing per 35.13(a)(2)(iii): 2015-05-18_SA 1972 GRE-OTP Amended 3rd Rev GIA (G645/G788) to be effective 7/18/2015.

Filed Date: 5/18/15.

Accession Number: 20150518-5271.

Comments Due: 5 p.m. ET 6/8/15.

Docket Numbers: ER15-1741-000.

Applicants: Southern California Edison Company.

Description: Section 205(d) rate filing per 35.13(a)(2)(iii): GIA and Distrib Serv Agmt Boomer Solar 2, LLC 800 N Barrington Ave Ontario Proj to be effective 5/20/2015.

Filed Date: 5/19/15.

Accession Number: 20150519-5006.

Comments Due: 5 p.m. ET 6/9/15.

Docket Numbers: ER15-1742-000.

Applicants: Niagara Mohawk Power Corporation, New York Independent System Operator, Inc.

Description: Section 205(d) rate filing per 35.13(a)(2)(iii): Amended/restated interconnection agreement (SA 337) NiMo & General Mills to be effective 4/1/2015.

Filed Date: 5/19/15.

Accession Number: 20150519-5060.

Comments Due: 5 p.m. ET 6/9/15.

Docket Numbers: ER15-1743-000.

Applicants: Summer Energy of Ohio LLC.

Description: Initial rate filing per 35.12 Summer Energy of Ohio LLC Market Based Rates Application and Tariff to be effective 7/18/2015.

Filed Date: 5/19/15.

Accession Number: 20150519-5076.

Comments Due: 5 p.m. ET 6/9/15.

Docket Numbers: ER15-1744-000.

Applicants: Southwest Power Pool, Inc.

Description: Notice of cancellation of Wind Farm Bear Creek LGIA of Southwest Power Pool, Inc.

Filed Date: 5/19/15.

Accession Number: 20150519-5096.

Comments Due: 5 p.m. ET 6/9/15.

Docket Numbers: ER15-1745-000.

Applicants: Midcontinent Independent System Operator, Inc.

Description: Section 205(d) rate filing per 35.13(a)(2)(iii): 2015-05-19_Non-Conforming NITS Filing to be effective 7/19/2015.

Filed Date: 5/19/15.

Accession Number: 20150519-5108.

Comments Due: 5 p.m. ET 6/9/15.

Docket Numbers: ER15-1746-000.

Applicants: Midcontinent Independent System Operator, Inc.

Description: Section 205(d) rate filing per 35.13(a)(2)(iii): 2015-05-19_SA 2301 MidAmerican-MidAmerican GIA (R34/R65/J191) to be effective 5/20/2015.

Filed Date: 5/19/15.

Accession Number: 20150519-5110.

Comments Due: 5 p.m. ET 6/9/15.

Docket Numbers: ER15-1747-000.

Applicants: Beaver Dam Energy LLC.

Description: Initial rate filing per 35.12 Beaver Dam Energy LLC MBR Tariff Application to be effective 7/17/2015.

Filed Date: 5/19/15.

Accession Number: 20150519-5114.

Comments Due: 5 p.m. ET 6/9/15.

Docket Numbers: ER15-1748-000.

Applicants: Milan Energy LLC.

Description: Initial rate filing per 35.12 Milan Energy LLC MBR Tariff Application to be effective 7/17/2015.

Filed Date: 5/19/15.

Accession Number: 20150519-5115.

Comments Due: 5 p.m. ET 6/9/15.

Docket Numbers: ER15-1749-000.

Applicants: Oxbow Creek Energy LLC.

Description: Initial rate filing per 35.12 Oxbow Creek Energy MBR Tariff Application to be effective 7/17/2015.

Filed Date: 5/19/15.

Accession Number: 20150519-5117.

Comments Due: 5 p.m. ET 6/9/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 19, 2015.
Nathaniel J. Davis, Sr.,
Deputy Secretary.

[FR Doc. 2015-12656 Filed 5-26-15; 8:45 am]

BILLING CODE 6717-01-P